DEPARTMENT OF COMMERCE

National Oceanic and Atmospheric Administration

ENVIRONMENTAL PROTECTION AGENCY

Coastal Nonpoint Pollution Control Program: Intent To Find That Washington Has Satisfied All Conditions of Approval Placed on Its Coastal Nonpoint Pollution Control Program

AGENCY: National Oceanic and Atmospheric Administration, U.S. Department of Commerce, and U.S. Environmental Protection Agency.

ACTION: Notice of availability of proposed finding; extension to public comment period.

SUMMARY: The National Oceanic and Atmospheric Administration (NOAA) and the U.S. Environmental Protection Agency (EPA) (the agencies) hereby extend the comment period on the agencies' proposed finding that Washington has satisfied all conditions the agencies established as part of their 1998 approval of the State's coastal nonpoint pollution control program (coastal nonpoint program) under Section 6217 of the Coastal Zone Act Reauthorization Amendments (CZARA).

DATES: The comment period for the proposed findings published June 15, 2020, at 85 FR 36186, is extended to September 14, 2020.

ADDRESSES: Comments may be submitted by:

• Electronic Submission: Submit all electronic public comments via the Federal eRulemaking Portal. Go to www.regulations.gov/docket?D=NOAA-NOS-2019-0135, click the “Comment Now!” icon, complete the required fields, and enter or attach your comments.

• Mail: Submit written comments to Joelle Gore, Chief, Stewardship Division (N/OCM6), Office for Coastal Management, NOS, NOAA, 1305 East-West Highway, Silver Spring, Maryland, 20910; phone (240) 533-0813; ATTN: Washington Coastal Nonpoint Program.

Instructions: All comments received are a part of the public record and will generally be posted for public viewing on www.regulations.gov without change. All personally identifiable information (name, address, etc.), confidential business information, or otherwise sensitive information submitted voluntarily by the commenter will be publicly accessible. NOAA and EPA will accept anonymous comments (enter “N/A” in the required fields if you wish to remain anonymous). Multimedia submissions (audio, video, etc.) must be accompanied by a written comment. The written comment is considered the official comment and should include discussion of all points you wish to make. The agencies will generally not consider comments or comment contents located outside of the primary submission (i.e., on the web, cloud, or other file sharing system).

FOR FURTHER INFORMATION CONTACT: Copies of the proposed findings document may be found on www.regulations.gov/docket?D=NOAA-NOS-2019-0135 and NOAA's Coastal Nonpoint Pollution Control Program website at https://coast.noaa.gov/czm/pollutioncontrol/. Additional background information on the State's program may be obtained upon request from: Allison Castellan, Stewardship Division (N/OCM6), Office for Coastal Management, NOS, NOAA, 1305 East-West Highway, Silver Spring, Maryland 20910, phone (240) 533-0799, email: allison.castellan@noaa.gov; or Michelle Wilcox, U.S. EPA Region 10, Washington Operations Office, 300 Desmond Drive SE, Suite 102, Lacey, WA 98503, phone: (360) 753-9469, email: wilcox.michelle@epa.gov.

SUPPLEMENTARY INFORMATION: On June 15, 2020, NOAA and EPA announced the availability of proposed findings on Washington's Coastal Nonpoint Program; see 85 FR 36186 for more complete information about the agencies' proposed finding. The original 60-day public comment period was set to end on August 14, 2020. This notice extends the comment period by 30 days to provide additional time for public comment.

Nicole R. LeBoeuf,
Deputy Assistant Administrator for Ocean Services, National Oceanic and Atmospheric Administration.
David P. Ross,
Assistant Administrator, Office of Water, Environmental Protection Agency.

[FR Doc. 2020-17627 Filed 8-11-20; 8:45 am]

BILLING CODE 3510-08-P